DEPARTMENT OF STATE

[Public Notice: 12611]

Advisory Committee on International Law; Meeting

ACTION: Notice of open meeting.

SUMMARY: This notice announces a meeting of the Department of State's Advisory Committee on International Law (“ACIL”).

DATES: January 17, 2025, from 9:00 a.m. to 3:15 p.m.

ADDRESSES: The George Washington University Law School, Student Conference Center, 2023 G Street NW, Second Floor, Washington, DC. An option to join virtually will also be available.

FOR FURTHER INFORMATION CONTACT: Members of the public who wish to attend should contact Shana Rogers, Office of the Legal Adviser, by January 8, 2025, at rogerssa2@state.gov or (771) 205-4995 and provide their name, professional affiliation (if any), email address, and phone number.

SUPPLEMENTARY INFORMATION: Legal Adviser Margaret L. Taylor will chair the meeting, which will be open to the public up to the capacity of the meeting room. Priority for in-person seating will be given to members of the Advisory Committee, and remaining seating will be reserved based upon when persons contact the Office of the Legal Adviser. Individuals who wish to attend virtually may request a link to the virtual meeting platform. Attendees who require reasonable accommodation should make their requests by January 8, 2025. Requests received after that date will be considered but might not be possible to accommodate. The meeting will include discussions on international law topics. These topics include: (1) jurisdictional issues related to crimes committed by private military and security companies (PMSCs), in light of ongoing work to develop an international regulatory framework on the regulation, monitoring, and oversight of PMSCs; (2) the tension between the stated scope of the binding force of international tribunal decisions and the practice of giving broad effect to those decisions; and (3) the interplay between various bodies of international law in the context of naval operations.

Authority: 5 U.S.C. 1009 and 41 CFR 102-3.150.

Shana A. Rogers,
Attorney-Adviser, Office of the Legal Adviser, Department of State.

[FR Doc. 2024-30612 Filed 12-20-24; 8:45 am]

BILLING CODE 4710-08-P